DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On February 22, 2021, OFAC determined that the property and interests in property subject to U.S. jurisdiction of the following persons are blocked under the relevant sanctions authority listed below.

Individuals

1. KYAW, Maung Maung, Burma; DOB 23 Jul 1964; nationality Burma; Gender Male; National ID No. 12/BAHANA(N)010023 (Burma) (individual) [BURMA-EO14014].

Designated pursuant to section 1(a)(iii)(A) of Executive Order 14014 of February 10, 2021, “Blocking Property With Respect To The Situation In Burma” (“E.O. 14014”) for being a foreign person who is or has been a leader of the military or security forces of Burma or any successor entity to any of the foregoing.

2. TUN, Moe Myint, Burma; DOB 24 May 1968; nationality Burma; Gender Male; National ID No. 7/KATAKHA(N)007836 (Burma) (individual) [BURMA-EO14014].

Designated pursuant to section 1(a)(iii)(A) of E.O. 14014 for being a foreign person who is or has been a leader of the military or security forces of Burma or any successor entity to any of the foregoing.

Dated: February 22, 2021.
Bradley T. Smith,
Acting Director, Office of Foreign Assets Control.

[FR Doc. 2021-04343 Filed 3-2-21; 8:45 am]

BILLING CODE 4810-AL-P